DEPARTMENT OF AGRICULTURE

Food Safety and Inspection Service

[Docket No. 05-015N]

Food Security Workshops

AGENCY: Food Safety and Inspection Service.

ACTION: Notice.

SUMMARY: The Food Safety and Inspection Service (FSIS) is announcing a series of workshops from May through June 2005, to discuss food security awareness, the FSIS Industry Self-Assessment Checklist for Food Security, food security plans, and FSIS Directive 5420.1, Revision 1, Food Security Verification Procedures.

DATES: Further information on these workshops will be announced on the FSIS Web site, http://www.fsis.usda.gov/. and through the Constituent Update; see Additional Public Notification below.

The tentative upcoming workshops are:

Dallas, Texas on May 14;

Oakland, California on May 21;

Chicago, Illinois on June 4;

Savannah, Georgia on June 11;

Newark, New Jersey on June 25;

Philadelphia, Pennsylvania on July 9.

ADDRESSES: Information on specific sites will be provided through the FSIS Web site and Constituent Update. FSIS highly recommends that attendees pre-register for the workshops. To pre-register for this workshop, call 1-800-485-4424 and follow the prompts. You may also pre-register at http://www.fsis.usda.gov/News/Meetings_&_Events/

A tentative agenda will be available in the FSIS Docket Room and on the Internet at http://www.fsis.usda.gov. For Further Information Contact: Ms. Diane Jones of the FSIS Strategic Initiatives, Partnerships and Outreach Staff at (202) 720-9692. If a sign language interpreter or other special accommodation is required, please contact Ms. Jones no later than one week before the workshop of interest.

For technical information, please contact Ms. Mary Cutshall, Director, Strategic Initiatives, Partnerships and Outreach Staff, Office of Public Affairs, Education and Outreach at (202) 690-6520.

SUPPLEMENTARY INFORMATION:

Background

In May 2002, the Food Safety and Inspection Service (FSIS) issued the FSIS Security Guidelines for Food Processors to assist meat, poultry, and egg product establishments in identifying ways to strengthen their food security protection. In August 2003, the FSIS Safety and Security Guidelines for the Transportation and Distribution of Meat, Poultry, and Egg Products were issued. These guidelines focused on enhancing food safety and security in the transportation and distribution segments of the supply chain. These guidelines are voluntary and provide recommendations about the types of security measures that may be used to prevent contamination of meat, poultry, and egg products during processing, transportation, and storage. A particularly important aspect of the guidelines is the suggestion that each facility should develop and implement a Food Security Plan. The purpose of the workshops is to provide additional guidance about the development and implementation of food security plans for meat, poultry, and egg processing facilities, import establishments, and identification warehouses. The Food Security Checklist, Food Security Models, and FSIS Directive 5420.1, Revision 1 are tools to aid affected entities in developing the security plans.

Additional Public Notification

Public awareness of all segments of rulemaking and policy development is important. Consequently, in an effort to ensure that the public and in particular minorities, women, and persons with disabilities, are aware of this notice, FSIS will announce it on-line through the FSIS Web page located at http://www.fsis.usda.gov/regulations/2005_Notices_Index/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, and more diverse audience.

In addition, FSIS offers an electronic mail subscription service that provides an automatic and customized notification when popular pages are updated, including Federal Register publications and related documents. This service is available at http://www.fsis.usda.gov/news_and_events/email_subscription/ and allows FSIS customers to sign up for subscription options in eight categories. Options range from recalls to export information to regulations, directives and notices. Customers can add or delete subscriptions themselves and have the option to password protect their accounts.

Done at Washington, DC on April 11, 2005.
Barbara J. Masters,
Acting Administrator.

[FR Doc. 05-7494 Filed 4-14-05; 8:45 am]

BILLING CODE 3410-DM-P